DEPARTMENT OF TRANSPORTATION

Coast Guard

33 CFR Part 165

[CGD01-00-221]

RIN 2115-AA97

Safety Zone: New York Harbor, Western Long Island Sound, East River, and Hudson River Fireworks

AGENCY: Coast Guard, DOT.

ACTION: Notice of proposed rulemaking.

SUMMARY: The Coast Guard proposes to establish ten permanent safety zones for fireworks displays located in the Port of New York/New Jersey, to expand the size of one current safety zone, and to modify effective times and notice requirements of existing permanent safety zones. This action is necessary to provide for the safety of life on navigable waters during the events. This action establishes permanent exclusion areas that are only active prior to the start of the fireworks display until shortly after the fireworks display is completed, and is intended to restrict vessel traffic in the affected waterways, expand the effective times of the zones to allow for earlier displays during daylight savings time, and to require one sign that may be used for displays from a barge or onshore.

DATES: Comments and related material must reach the Coast Guard on or before February 12, 2001.

ADDRESSES: You may mail comments and related material to Waterways Oversight Branch (CGD01-00-221), Coast Guard Activities New York, 212 Coast Guard Drive, room 204, Staten Island, New York 10305. The Waterways Oversight Branch of Coast Guard Activities New York maintains the public docket for this rulemaking. Comments and material received from the public, as well as documents indicated in this preamble as being available in the docket, will become part of this docket and will be available for inspection or copying at room 204, Coast Guard Activities New York, between 8 a.m. and 3 p.m., Monday through Friday, except Federal holidays.

FOR FURTHER INFORMATION CONTACT: Lieutenant M. Day, Waterways Oversight Branch, Coast Guard Activities New York (718) 354-4012.

SUPPLEMENTARY INFORMATION:

Request for Comments

We encourage you to participate in this rulemaking by submitting comments and related material. If you do so, please include your name and address, identify the docket number for this rulemaking (CGD01-00-221), indicate the specific section of this document to which each comment applies, and give the reason for each comment. Please submit all comments and related material in an unbound format, no larger than 8½ by 11 inches, suitable for copying. If you would like to know they reached us, please enclose a stamped, self-addressed postcard or envelope. We will consider all comments and material received during the comment period. We may change this proposed rule in view of them.

Public Meeting

We do not now plan to hold a public meeting. But you may submit a request for a meeting by writing to the Waterways Oversight Branch at the address under ADDRESSES explaining why one would be beneficial. If we determine that one would aid this rulemaking, we will hold one at a time and place announced by a later notice in the Federal Register.

Background and Purpose

The Coast Guard proposes to establish ten permanent safety zones that will be activated for fireworks displays occurring throughout the year that are not held on an annual basis but are normally held in one of these ten locations. The ten locations are south of Ellis Island, Rockaway Beach, and Rockaway Inlet in New York Harbor, Larchmont Harbor in western Long Island Sound, Pier 16 and Newtown Creek on the East River, Pier 54 and Pier 84, Manhattan, Peekskill Bay, and Jersey City on the Hudson River. The Coast Guard also proposes to expand the diameter of the current safety zone west of Pier 90, on the Hudson River, to 360 yards from the current 300 yards. The Coast Guard received 17 applications for fireworks displays in these new areas from 1999 to 2000. In 1997, the Coast Guard received four applications for fireworks displays in these locations. In the past, temporary safety zones were established with limited notice for preparation by the U.S. Coast Guard and limited opportunity for public comment. Establishing permanent safety zones by notice and comment rulemaking at least gives the public the opportunity to comment on the proposed zone locations, size, and length of time the zones will be active. The Coast Guard has promulgated safety zones for fireworks displays at all 11 areas in the past and we have not received notice of any impact to waterway traffic resulting from the zones' enaction. Marine traffic would still be able to transit around the proposed safety zones because all of the zones prohibit vessels from entering only the zones themselves. Additionally, vessels would not be precluded from mooring at or getting underway from commercial or recreational piers in the vicinity of the proposed safety zones. This proposal would also move the zone effective time back two hours so that zones are enacted beginning at 6 p.m. versus 8 p.m. The safety zone termination time remains the same. Finally, the proposed rule would only require one sign reading “FIREWORKS—STAY AWAY”. The current regulations require a sign that reads “FIREWORKS BARGE” for displays from barges, and a separate sign that reads “FIREWORKS SITE” for displays from shore. The sign dimensions and letter requirements remain the same.

This proposed rule revises 33 CFR 165.168 by adding ten permanent safety zones to the 24 existing ones, expanding the diameter of the safety zone west of Pier 90, on the Hudson River, to 360 yards from the current 300 yards, expanding the effective time of the zones to allow for earlier displays during Daylight Savings Time, and simplifying the requirements for signs used as on-scene notification.

Discussion of Proposed Rule

The proposed sizes of these safety zones were determined using National Fire Protection Association and New York City Fire Department standards for 6 to 12 inch mortars fired from a barge, combined with the Coast Guard's knowledge of tide and current conditions in these areas. Proposed barge locations and mortar sizes were adjusted to try and ensure the proposed safety zone locations would not interfere with any known marinas or piers. The proposed earlier effective time for the zones would allow for earlier fireworks displays during Daylight Savings Time. The proposed new sign requirements are to make it easier for the fireworks companies to make on-scene notifications. The 11 proposed safety zones are:

New York Harbor

The first proposed safety zone includes all waters of Upper New York Bay within a 240-yard radius of the fireworks barge in approximate position 40°41′39.9″N 074°02′33.7″W (NAD 1983), about 260 yards south of Ellis Island. The proposed safety zone prevents vessels from transiting a portion of Upper New York Bay and is needed to protect boaters from the hazards associated with fireworks launched from a barge in the area. Marine traffic will still be able to transit through Anchorage Channel as it is unaffected by this zone. Additionally, vessels would still be able to anchor in Federal Anchorage No. 20-B, to the north, and 20-C, to the south of the proposed safety zone. The Captain of the Port does not anticipate any negative impact on vessel traffic due to this proposed safety zone.

The second proposed safety zone includes all waters of the Atlantic Ocean within a 360-yard radius of the fireworks barge in approximate position 40°34′28.2″N 073°50′00.0″W (NAD 1983), off Beach 116th Street. The proposed safety zone prevents vessels from transiting a portion of the Atlantic Ocean and is needed to protect boaters from the hazards associated with fireworks launched from a barge in the area. Marine traffic will still be able to transit through the Atlantic Ocean near Rockaway Beach. Additionally, vessels would not be precluded from mooring at or getting underway from recreational piers in the vicinity of the zone and there are no commercial facilities in the vicinity of the zone. The Captain of the Port does not anticipate any negative impact on vessel traffic due to this proposed safety zone.

The third proposed safety zone includes all waters of Rockaway Inlet within a 360-yard radius of the fireworks barge in approximate position 40°34′19.1″N 073°54′43.5″W (NAD 1983), about 1,200 yards south of Point Breeze. The proposed safety zone prevents vessels from transiting a portion of Rockaway Inlet and is needed to protect boaters from the hazards associated with fireworks launched from a barge in the area. Marine traffic will still be able to transit through Rockaway Inlet. Additionally, vessels would not be precluded from mooring at or getting underway from recreational piers in the vicinity of the zone and there are no commercial facilities in the vicinity of the zone. The Captain of the Port does not anticipate any negative impact on vessel traffic due to this proposed safety zone.

Western Long Island Sound

The proposed safety zone includes all waters of Larchmont Harbor within a 240-yard radius of the fireworks barge in approximate position 40°55′21.8″N 073°44′21.7″W (NAD 1983), about 540 yards north of Umbrella Rock. The proposed safety zone prevents vessels from transiting a portion of Larchmont Harbor and is needed to protect boaters from the hazards associated with fireworks launched from a barge in the area. Recreational traffic will still be able to transit through the western 100 yards and eastern 40 yards of the 620-yard wide Larchmont Harbor. There are currently no commercial facilities in Larchmont Harbor. Additionally, vessels would not be precluded from mooring at or getting underway from any piers in the vicinity of the proposed safety zone. The Captain of the Port does not anticipate any negative impact on vessel traffic due to this proposed safety zone.

East River

The first proposed safety zone includes all waters of the East River within a 180-yard radius of the fireworks barge in approximate position 40°42′12.5″N 074°00′02.0″W (NAD 1983), about 200 yards east of Pier 16. The proposed safety zone prevents vessels from transiting a portion of the East River and is needed to protect boaters from the hazards associated with fireworks launched from a barge in the area. Vessel traffic will be able to transit through the eastern 140 yards of the 490-yard wide East River during the event. Additionally, vessels would not be precluded from mooring at or getting underway from any piers in the vicinity of the proposed safety zone.

The second proposed safety zone includes all waters of the East River within a 360-yard radius of the fireworks barge in approximate position 40°44′24.0″N 073°58′00.0″W (NAD 1983), about 785 yards south of Belmont Island. The proposed safety zone prevents vessels from transiting a portion of the East River and is needed to protect boaters from the hazards associated with fireworks launched from a barge in the area. Recreational and non-deep draft commercial vessel traffic will be able to transit through the western 160 yards of the 910-yard wide East River during the event. This safety zone would close this portion of the East River for vessels that must use the Poorhouse Flats Range. This range marks the area where the 35-foot deep main channel crosses from the west side of the river to the east side of the river. The Poorhouse Flats Range marks the best water in this crossover. But the Coast Guard will minimize any negative impact from this safety zone by ensuring that this zone is not effective during slack tide, which is typically when vessels that must use the Poorhouse Flats Range transit this portion of the East River. Additionally, vessels would not be precluded from mooring at or getting underway from any piers in the vicinity of the proposed safety zone.

Hudson River

The first proposed safety zone includes all waters of the Hudson River within a 360-yard radius of the fireworks barge in approximate position 40°44′31″N 074°01′00″W (NAD 1983), about 380 yards west of Pier 54. The proposed safety zone prevents vessels from transiting a portion of the Hudson River and is needed to protect boaters from the hazards associated with fireworks launched from a barge in the area. Marine traffic will still be able to transit through the western 170 yards of the 885-yard wide Hudson River during the event. Additionally, vessels would not be precluded from mooring at or getting underway from any piers in the vicinity of the proposed safety zone. The Captain of the Port does not anticipate any negative impact on vessel traffic due to this proposed safety zone.

The second proposed safety zone includes all waters of the Hudson River within a 360-yard radius of the fireworks barge in approximate position 40°45′56.9″N 074°00′25.4″W (NAD 1983), about 380 yards west of Pier 84. The proposed safety zone prevents vessels from transiting a portion of the Hudson River and is needed to protect boaters from the hazards associated with fireworks launched from a barge in the area. Marine traffic will still be able to transit through the western 165 yards of the 875-yard wide Hudson River during the event. Additionally, vessels would not be precluded from mooring at or getting underway from any piers in the vicinity of the proposed safety zone. The Captain of the Port does not anticipate any negative impact on vessel traffic due to this proposed safety zone.

The third proposed safety zone includes all waters of Peekskill Bay within a 360-yard radius of the fireworks barge in approximate position 41°17′16″N 073°56′18″W (NAD 1983), about 670 yards north of Travis Point. The proposed safety zone prevents vessels from transiting a portion of Peekskill Bay and is needed to protect boaters from the hazards associated with fireworks launched from a barge in the area. Marine traffic will still be able to transit through Peekskill Bay Channel during the event. Additionally, vessels would not be precluded from mooring at or getting underway from any piers in the vicinity of the proposed safety zone. The Captain of the Port does not anticipate any negative impact on vessel traffic due to this proposed safety zone.

The fourth proposed safety zone includes all waters of the Hudson River within a 360-yard radius of the fireworks barge in approximate position 40°42′37.3″N 074°01′41.6″W (NAD 1983), about 420 yards east of Morris Canal Little Basin. The proposed safety zone prevents vessels from transiting a portion of the Hudson River and is needed to protect boaters from the hazards associated with fireworks launched from a barge in the area. Marine traffic will still be able to transit through the eastern 535 yards of the 1,215-yard wide Hudson River during the event. Additionally, vessels would not be precluded from mooring at or getting underway from any piers in the vicinity of the proposed safety zone. The Captain of the Port does not anticipate any negative impact on vessel traffic due to this proposed safety zone.

The fifth proposed safety zone includes all waters of the Hudson River within a 360-yard radius of the fireworks barge in approximate position 40°46′11.8″N 074°00′14.8″W (NAD 1983), about 375 yards west of Pier 90, Manhattan. The proposed safety zone prevents vessels from transiting a portion of the Hudson River and is needed to protect boaters from the hazards associated with fireworks launched from a barge in the area. Marine traffic will still be able to transit through the western 160 yards of the 895-yard wide Hudson River during the event. This would expand the diameter of the current safety zone (§ 165.168(d)(4)) from 300 yards to 360 yards. This expanded safety zone would only be authorized when it would not interfere with vessel traffic at the New York Passenger Ship Terminal. Normally, this safety zone is established in conjunction with a passenger ship arrival or departure from Pier 88, 90, or 92. Additionally, vessels would not be precluded from mooring at or getting underway from any piers in the vicinity of the proposed safety zone. The Captain of the Port does not anticipate any negative impact on vessel traffic due to this proposed safety zone.

The Coast Guard does not know the actual dates that these safety zones will be activated at this time. Coast Guard Activities New York will give notice of the activation of each safety zone by all appropriate means to provide the widest publicity among the affected segments of the public. This will include publication in the Local Notice to Mariners. Marine information and facsimile broadcasts may also be made for these events, beginning 24 to 48 hours before the event is scheduled to begin, to notify the public. The Coast Guard expects that the notice of the activation of each permanent safety zone in this rulemaking will normally be made between thirty and fourteen days before the zone is actually activated. Fireworks barges used in the locations stated in this rulemaking will also have a sign on the port and starboard side of the barge labeled “FIREWORKS—STAY AWAY”. This will provide on-scene notice that the safety zone the fireworks barge is located in is or will be activated on that day. This sign will consist of 10” high by 1.5” wide red lettering on a white background. Displays launched from shore sites will have a sign labeled “FIREWORKS—STAY AWAY” with the same size requirements. There will also be a Coast Guard patrol vessel on scene 30 minutes before the display is scheduled to start until 15 minutes after its completion to enforce each safety zone.

The effective period for each proposed safety zone is from 6 p.m. (e.s.t.) to 1 a.m. (e.s.t.). This is two hours earlier than the current regulations and is to allow for earlier fireworks displays during Daylight Savings Time. However, vessels may enter, remain in, or transit through these safety zones during this time frame if authorized by the Captain of the Port New York, or designated Coast Guard patrol personnel on scene, as provided for in 33 CFR 165.23. Generally, blanket permission to enter, remain in, or transit through these safety zones will be given except for the 45-minute period that a Coast Guard patrol vessel is present.

This rule is being proposed to provide for the safety of life on navigable waters during the events and to give the marine community the opportunity to comment on the proposed zone locations, size, and length of time the zones will be active.

Regulatory Evaluation

This proposed rule is not a “significant regulatory action” under section 3(f) of Executive Order 12866 and does not require an assessment of potential costs and benefits under section 6(a)(3) of that Order. The Office of Management and Budget has not reviewed it under that Order. It is not significant under the regulatory policies and procedures of the Department of Transportation (DOT) (44 FR 11040, February 26, 1979).

We expect the economic impact of this proposed rule to be so minimal that a full Regulatory Evaluation under paragraph 10e of the regulatory policies and procedures of DOT is unnecessary.

This finding is based on the minimal time that vessels will be restricted from the zones, and all of the zones are in areas where the Coast Guard expects insignificant adverse impact on all mariners from the zones' activation. Vessels may also still transit through New York Harbor, western Long Island Sound, the East River, and Hudson River, during these events. Vessels would not be precluded from getting underway, or mooring at, any piers or marinas currently located in the vicinity of the proposed safety zones. Advance notifications would also be made to the local maritime community by the Local Notice to Mariners. Marine information and facsimile broadcasts may also be made to notify the public. Additionally, the Coast Guard anticipates that there will only be 18 total activations of these safety zones per year.

Small Entities

Under the Regulatory Flexibility Act (5 U.S.C. 601-612), we considered whether this proposed rule would have a significant economic impact on a substantial number of small entities. The term “small entities” comprises small businesses, not-for-profit organizations that are independently owned and operated and are not dominant in their fields, and governmental jurisdictions with populations of less than 50,000.

The Coast Guard certifies under 5 U.S.C. 605(b) that this proposed rule would not have a significant economic impact on a substantial number of small entities.

This proposed rule would affect the following entities, some of which might be small entities: the owners or operators of vessels intending to transit or anchor in a portion of New York Harbor, western Long Island Sound, the East River, and Hudson River, during the times these zones are activated.

These safety zones would not have a significant economic impact on a substantial number of small entities for the following reasons: Vessel traffic could transit around all 11 safety zones. Vessels would not be precluded from getting underway, or mooring at, any piers or marinas currently located in the vicinity of the proposed safety zones. Before the effective period, we would issue maritime advisories widely available to users of the Port of New York/New Jersey by local notice to mariners. Marine information and facsimile broadcasts may also be made.

If you think that your business, organization, or governmental jurisdiction qualifies as a small entity and that this rule would have a significant economic impact on it, please submit a comment (see ADDRESSES) explaining why you think it qualifies and how and to what degree this rule would economically affect it.

Assistance for Small Entities

Under section 213(a) of the Small Business Regulatory Enforcement Fairness Act of 1996 (Pub. L. 104-121), we want to assist small entities in understanding this proposed rule so that they can better evaluate its effects on them and participate in the rulemaking. If the rule would affect your small business, organization, or governmental jurisdiction and you have questions concerning its provisions or options for compliance, please contact Lieutenant M. Day, Waterways Oversight Branch, Coast Guard Activities New York (718) 354-4012.

Collection of Information

This proposed rule would call for no new collection of information under the Paperwork Reduction Act of 1995 (44 U.S.C. 3501-3520.).

Federalism

We have analyzed this proposed rule under Executive Order 13132 and have determined that this rule does not have implications for federalism under that Order.

Unfunded Mandates Reform Act

The Unfunded Mandates Reform Act of 1995 (2 U.S.C. 1531-1538) governs the issuance of Federal regulations that require unfunded mandates. An unfunded mandate is a regulation that requires a State, local, or tribal government or the private sector to incur direct costs without the Federal Government's having first provided the funds to pay those costs. This proposed rule would not impose an unfunded mandate.

Taking of Private Property

This proposed rule would not effect a taking of private property or otherwise have taking implications under Executive Order 12630, Governmental Actions and Interference with Constitutionally Protected Property Rights.

Civil Justice Reform

This proposed rule meets applicable standards in sections 3(a) and 3(b)(2) of Executive Order 12988, Civil Justice Reform, to minimize litigation, eliminate ambiguity, and reduce burden.

Protection of Children

We have analyzed this proposed rule under Executive Order 13045, Protection of Children from Environmental Health Risks and Safety Risks. This rule is not an economically significant rule and does not concern an environmental risk to health or risk to safety that may disproportionately affect children.

Environment

We considered the environmental impact of this proposed rule and concluded that, under figure 2-1, paragraph 34(g), of Commandant Instruction M16475.1C, this proposed rule is categorically excluded from further environmental documentation. This proposed rule fits paragraph 34(g) as it establishes 11 safety zones. A “Categorical Exclusion Determination” is available in the docket where indicated under ADDRESSES.

List of Subjects in 33 CFR Part 165

Harbors, Marine safety, Navigation (water), Reporting and recordkeeping requirements, Security measures, Waterways.

For the reasons discussed in the preamble, the Coast Guard proposes to amend 33 CFR Part 165 as follows:

PART 165—REGULATED NAVIGATION AREAS AND LIMITED ACCESS AREAS

1. The authority citation for Part 165 continues to read as follows:

Authority: 33 U.S.C. 1231; 50 U.S.C. 191; 33 CFR 1.05-1(g), 6.04-1, 6.04-6, 160.5; 49 CFR 1.46.

2. Section 165.168 is amended as follows:

a. Revise the section heading;

b. Revise paragraph (a) introductory text and add paragraphs (a)(7) through (a)(9);

c. Revise paragraph (b) introductory text and add paragraph (b)(10);

d. Revise paragraph (c) introductory text and add paragraphs (c)(3) through (c)(4);

e. Revise paragraphs (d) introductory text and (d)(4) and add paragraphs (d)(8) through (d)(11);

f. Revise paragraphs (e) and (f); and

g. Revise Figures 1 through 4.

The additions and revisions read as follows:

§ 165.168 Safety Zones: New York Harbor, Western Long Island Sound, East River, and Hudson River Fireworks.

(a) New York Harbor. Figure 1 of this section displays the safety zone areas in paragraphs (a)(1) through (a)(9).

* * * * *

(7) South Ellis Island Safety Zone: All waters of Upper New York Bay within a 240-yard radius of the fireworks barge in approximate position 40°41′39.9″N 074°02′33.7″W (NAD 1983), about 260 yards south of Ellis Island.

(8) Rockaway Beach Safety Zone: All waters of the Atlantic Ocean within a 360 yard radius of the fireworks barge in approximate position 40°34′28.2″N 073°50′00.0″W (NAD 1983), off Beach 116th Street.

(9) Rockaway Inlet Safety Zone: All waters of Rockaway Inlet within a 360 yard radius of the fireworks barge in approximate position 40°34′19.1″N 073°54′43.5″W (NAD 1983), about 1,200 yards south of Point Breeze.

(b) Western Long Island Sound. Figure 2 of this section displays the safety zone areas in paragraphs (b)(1) through (b)(10).

* * * * *

(10) Larchmont Harbor, Western Long Island Sound Safety Zone: All waters of western Long Island Sound within a 240-yard radius of the fireworks barge in approximate position 40°55′21.8″N 073°44′21.7″W (NAD 1983), about 540 yards north of Umbrella Rock.

(c) East River. Figure 3 of this section displays the safety zone areas in paragraphs (c)(1) through (c)(4).

* * * * *

(3) Pier 16, East River Safety Zone: All waters of the East River within a 180-yard radius of the fireworks barge in approximate position 40°42′12.5″N 074°00′02.0″W (NAD 1983), about 200 yards east of Pier 16.

(4) Newtown Creek, East River Safety Zone: All waters of the East River within a 360-yard radius of the fireworks barge in approximate position 40°44′24.0″N 073°58′00.0″W (NAD 1983), about 785 yards south of Belmont Island.

(d) Hudson River. Figure 4 of this section displays the safety zone areas in paragraphs (d)(1) through (d)(11).

* * * * *

(4) Pier 90, Hudson River Safety Zone: All waters of the Hudson River within a 360-yard radius of the fireworks barge in approximate position 40°46′11.8″N 074°00′14.8″W (NAD 1983), about 375 yards west of Pier 90, Manhattan.

* * * * *

(8) Pier 54, Hudson River Safety Zone: All waters of the Hudson River within a 360-yard radius of the fireworks barge in approximate position 40°44′31″N 074°01′00″W (NAD 1983), about 380 yards west of Pier 54, Manhattan.

(9) Pier 84, Hudson River Safety Zone: All waters of the Hudson River within a 360-yard radius of the fireworks barge in approximate position 40°45′56.9″N 074°00′25.4″W (NAD 1983), about 380 yards west of Pier 84, Manhattan.

(10) Peekskill Bay, Hudson River Safety Zone: All waters of Peekskill Bay within a 360-yard radius of the fireworks barge in approximate position 41°17′16″N 073°56′18″W (NAD 1983), about 670 yards north of Travis Point.

(11) Jersey City, Hudson River Safety Zone: All waters of the Hudson River within a 360-yard radius of the fireworks barge in approximate position 40°42′37.3″N 074°01″41.6″W (NAD 1983), about 420 yards east of Morris Canal Little Basin.

(e) Notification. Coast Guard Activities New York will cause notice of the activation of these safety zones to be made by all appropriate means to effect the widest publicity among the affected segments of the public, including publication in the local notice to mariners, marine information broadcasts, and facsimile. Fireworks barges used in these locations will also have a sign on their port and starboard side labeled “FIREWORKS—STAY AWAY”. This sign will consist of 10″ high by 1.5″ wide red lettering on a white background. Shore sites used in these locations will display a sign labeled “FIREWORKS—STAY AWAY” with the same dimensions.

(f) Effective Period. This section is effective from 6 p.m. (e.s.t.) to 1 a.m. (e.s.t.) each day a barge with a “FIREWORKS—STAY AWAY” sign on the port and starboard side is on-scene or a “FIREWORKS—STAY AWAY” sign is posted in a location listed in paragraphs (a) through (d) of this section. Vessels may enter, remain in, or transit through these safety zones during this time frame if authorized by the Captain of the Port New York or designated Coast Guard patrol personnel on scene.

* * * * *

BILLING CODE 4910-15-U

Dated: November 3, 2000.
P.A. Harris,
Captain, U.S. Coast Guard, Captain of the Port, New York, Acting.

[FR Doc. 00-31705 Filed 12-12-00; 8:45 am]

BILLING CODE 4910-15-C